DEPARTMENT OF AGRICULTURE

Forest Service

Caribou-Targhee National Forest; Idaho and Wyoming; Amendment to the Targhee Revised Forest Plan—Canada Lynx Habitat

AGENCY: Forest Service, USDA.

ACTION: Notice of intent to prepare an environmental impact statement.

SUMMARY: The Caribou-Targhee National Forest proposes to amend the Targhee Revised Forest Plan (1997) to include a map identifying specific areas where the Northern Rockies Lynx Management Direction (NRLMD, 2007) applies.

Pre-Decisional Administrative Review Process: The decision on this proposed plan amendment will be subject to the objection process for the planning process (36 CFR part 219, subpart B). Only those individuals and entities who submit substantive formal comments related to this proposed plan amendment during the opportunities for public comment as provided in 36 CFR part 219, Subpart A may file an objection. The burden is on the objector to demonstrate compliance with requirements for objection (36 CFR 219.53).

Public Participation: The Agency invites interested parties to participate and collaborate on this proposal and analysis. Publication of this Notice initiates the 30-day scoping process. Comments received concerning this proposed plan amendment will be used to develop the proposal and the Draft Environmental Impact Statement (EIS).

Once the Draft EIS is prepared, publication of its Notice of Availability in the Federal Register will begin a formal 90-day opportunity to provide written comments. Comments on the Draft EIS will be used to prepare the Final EIS and Draft Record of Decision. Notice of Availability of the Final EIS and Draft Record of Decision will be made in the Federal Register. Public notice to begin the 60-day opportunity to file an objection will be published in the newspaper of record. Public notice of all objections will be published in the newspaper of record and begin the 10 day period for an interested person to request participation in meetings between the reviewing officer and objector(s) to discuss issues raised in the objection and potential resolution. All meetings are open to observation by the public. After the reviewing officer responds in writing to objections, the responsible official will issue the Final Record of Decision, consistent with responses to objections, and issue a public notice of the decision and, if applicable, the approved amendment.

The newspaper of record is the Post Register. The Draft EIS, Final EIS, Draft Record of Decision, responses to objections, Final Record of Decision, approved amendment, and all public notices and Federal Register notices will be made available online. Additional opportunities for public involvement will be offered prior to the Final EIS if determined necessary by the responsible official.

DATES: The Draft EIS for the Amendment is expected in July 2013. The Final EIS and Draft Record of Decision are expected in December 2013. The Final Record of Decision is expected in 2014.

ADDRESSES: Send written comments in response to this Notice to: Targhee Lynx Analysis, Caribou-Targhee National Forest, 1405 Hollipark Drive, Idaho Falls, ID 83401. Comments may also be sent via email to comments-intermtn-caribou-targhee@fs.fed.us or via facsimile to 208/557-5826.

FOR FURTHER INFORMATION CONTACT: Megan Bogle, Forest Planner (208)354-6613 or mbogle@fs.fed.us. Additional information about this analysis will be posted at http://www.fs.fed.us/nepa/fs-usda-pop.php/?project=40275. Individuals who use telecommunication devices for the deaf (TDD) may call the Federal Information Relay Service (FIRS) at 1-800-877-8339 between 8 a.m. and 8 p.m., Eastern Time, Monday through Friday.

SUPPLEMENTARY INFORMATION: The Canada lynx was listed as a Threatened species under the Endangered Species Act in 2000. The 1997 Targhee Revised Forest Plan did not identify lynx habitat. The NRLMD ROD established programmatic management direction for lynx habitat on the Targhee but did not make a decision about what lynx habitat is, where linkage area boundaries are, or how they are identified.

This analysis has been initiated in response to a June 6, 2012, District of Idaho Court Order. In that order, the Court determined that the Agency may not rely upon its 2005 Lynx Analysis Unit Map which delineates the areas subject to the NRLMD until it is analyzed in an EIS pursuant to the National Environmental Policy Act.

The project area is located in the Idaho counties of Bonneville, Butte, Clark, Fremont, Jefferson, Lemhi, Madison, Teton; and the Wyoming counties of Lincoln and Teton.

Proposed Action

The proposed action is to amend the 1997 Targhee Revised Forest Plan to incorporate a map that will identify lynx habitat, lynx analysis units, and linkage areas. The map will incorporate the finest-scale vegetation information and best data available. The analysis will be completed in compliance with the National Environmental Policy Act, the NRLMD and other applicable laws, rules, regulations and policies. The effects of such an amendment will be analyzed and disclosed in the EIS. Consultation with the US Fish and Wildlife Service will occur to ensure compliance with the Endangered Species Act.

Responsible Official

The Caribou-Targhee National Forest Supervisor is the responsible official and will make the decision.

Nature of Decision to Be Made

In the decision, the responsible official will decide whether or not to amend the 1997 Targhee Revised Forest Plan.

Preliminary Issues

1. Disagreement regarding the extent and distribution of lynx habitat across the Targhee portion of the Caribou-Targhee National Forest.

Possible Alternatives

At a minimum, the proposed action and a no action alternative will be analyzed. The no action alternative would not incorporate the lynx habitat, LAU, and linkage area map as an amendment to the 1997 Targhee Revised Forest Plan.

Scoping Process

This Notice initiates the public involvement process, which guides the development of the alternatives and the analysis. It is important that reviewers provide their comments at such times and in such manner that they are useful to the agency's preparation of the Draft EIS. Therefore, comments should be provided prior to the close of the comment period and should clearly articulate the reviewer's concerns.

Comments received in response to this scoping notice, including names and addresses of those who comment, will become part of the public record for this proposed action. Comments submitted anonymously will be accepted and considered.

Dated: March 15, 2013.
Brent Larson,
Forest Supervisor.

[FR Doc. 2013-06616 Filed 3-21-13; 8:45 am]

BILLING CODE 3410-11-P